ENVIRONMENTAL PROTECTION AGENCY

[OPP-2002-0202; FRL-7273-8]

Lindane Reregistration Eligibility Decision (RED); Notice of Availability for Comment

AGENCY: Environmental Protection Agency (EPA)

ACTION: Notices.

SUMMARY: This notice announces the availability of the Reregistration Eligibility Decision (RED) document and technical support documents for the pesticide active ingredient, lindane. These documents have been developed using a public participation process designed by the EPA and the U.S. Department of Agriculture (USDA) to involve the public in the reassessment of pesticide tolerances under the Food Quality Protection Act (FQPA) and the reregistration of individual pesticides under the Federal Insecticide, Fungicide, and Rodenticide Act (FIFRA). This notice starts a 60-day public comment period for lindane, during which the public is invited to submit comments on the Agency's risk management decision.

DATES: Comments, identified by docket ID number OPP-2002-0202, must be received on or before November 22, 2002

ADDRESSES: Comments may be submitted by mail, electronically, or in person. Please follow the detailed instructions for each method as provided in Unit I. of the SUPPLEMENTARY INFORMATION. To ensure proper receipt by EPA, it is imperative that you identify docket ID number OPP-2002-0202 in the subject line on the first page of your response.

FOR FURTHER INFORMATION CONTACT: Mark Howard, Special Review and Reregistration Division (7508C), Office of Pesticide Programs, Environmental Protection Agency, 1200 Pennsylvania Ave., NW., Washington, DC 20460; telephone number: (703) 308-8172; fax number: (703) 308-8005; e-mail address: howard.markt@epa.gov.

SUPPLEMENTARY INFORMATION:

I. General Information

A. Does this Action Apply to Me?

This action is directed to the public in general, nevertheless, a wide range of stakeholders will be interested in obtaining the revised risk assessments and submitting risk management comments on lindane including environmental, human health, and agricultural advocates; the chemical industry; pesticide users; and members of the public interested in the use of pesticides on food. As such, the Agency has not attempted to specifically describe all the entities potentially affected by this action. If you have any questions regarding the applicability of this action to a particular entity, consult the person listed under FOR FURTHER INFORMATION CONTACT.

B. How Can I Get Additional Information, Including Copies of this Document and Other Related Documents?

1. Electronically. You may obtain electronic copies of this document, and most other related documents that might be available electronically, from the EPA Internet Home Page at http://www.epa.gov/. To access this document, on the Home Page select “Laws and Regulations,” “Regulations and Proposed Rules,” and then look up the entry for this document under the “Federal Register —Environmental Documents.” You can also go directly to the Federal Register listings at http://www.epa.gov/fedrgstr/.

You can obtain copies of the RED and related documents discussed in this notice from EPA's Office of Pesticide Programs' Home Page, http://www.epa.gov/pesticides/ using the following links: “Reregistration Eligibility (REDs)” under the heading “Reregistration and Special Review” and then “Lindane.” You can also go directly to the “Lindane RED” at http://www.epa.gov/pesticides/reregistration/status.htm. Available documents include the RED, supporting technical documents, and Federal Register notices. Information on pesticide reregistration and tolerance reassessment, including the purpose and status of Agency programs to complete REDs, Interim REDs, and tolerance reassessment decisions (TREDs), is available at http://www.epa.gov/pesticides/tolerance. General information is available on the Office of Pesticide Programs' Home Page, http://www.epa.gov/pesticides/.

2. In person. The Agency has established an official record for this action under docket ID number OPP-2002-0202. The official record consists of the documents specifically referenced in this action, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments on any part of the RED through the mail, in person, or electronically. To ensure proper receipt by EPA, it is imperative that you identify docket ID number OPP-2002-0202 in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to: opp-docket@epa.gov, or you can submit a computer disk as described above. Do not submit any information electronically that you consider to be CBI. Avoid the use of special characters and any form of encryption. Electronic submissions will be accepted in WordPerfect 6.1/8.0/9.0 or ASCII file format. All comments in electronic form must be identified by docket ID number OPP-2002-0202. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this notice.

8. To ensure proper receipt by EPA, be sure to identify the docket ID number assigned to this action in the subject line on the first page of your response. You may also provide the name, date, and Federal Register citation.

II. Background

A. What Action is the Agency Taking?

The Agency has issued a RED for the pesticide active ingredient lindane. Under FIFRA, as amended in 1988 and 1996, EPA is conducting an accelerated reregistration program to re-evaluate existing pesticides to make sure they meet current scientific and regulatory standards. The data base to support the reregistration of lindane is substantially complete, and the Agency has identified risk mitigation measures that, if adopted by the registrant, will address the human health and ecological risks associated with the remaining uses of lindane.

As part of the lindane RED, the Agency will revoke all existing lindane tolerances because all lindane products for which the tolerances were originally established have been cancelled. The Agency has also determined that the currently registered lindane seed treatment products would be eligible for reregistration if the registrants make the changes to the terms and conditions specified in the lindane RED and provide the required data, and if EPA is able to establish all required tolerances for residues of lindane in food. The RED document includes guidance and time frames for complying with any label changes for products containing lindane.

The reregistration program is being conducted under Congressionally mandated time frames, and EPA recognizes both the need to make timely reregistration decisions and to involve the public. Therefore, EPA is issuing the lindane RED as a final document with a 60-day public comment period. Although the 60-day comment period does not affect the registrants's response due date, it is intended to provide an opportunity for public input and a mechanism for initiating any necessary amendments to the RED. All comments will be carefully considered by the Agency. If any comment significantly affects the lindane RED, EPA will amend the RED by publishing the amendment in the Federal Register.

B. What is the Agency's Authority for Taking this Action?

The legal authority for these RED falls under FIFRA, as amended in 1988 and 1996. Section 4(g)(2)(A) of FIFRA directs that, after submission of all data concerning a pesticide active ingredient,“the Administrator shall determine whether pesticides containing such active ingredient are eligible for reregistration.”

List of Subjects

Environmental protection, Lindane, Pesticides and pests.

Dated: September 13, 2002.
Lois Ann Rossi,
Director, Special Review and Reregistration Division, Office of Pesticide Programs.

[FR Doc. 02-24096 Filed 9-20-02; 8:45 am]

BILLING CODE 6560-50-S